DEPARTMENT OF HOMELAND SECURITY

Office of the Secretary

[Docket No. DHS-2008-0111]

Privacy Act of 1974; United States Coast Guard—011 Military Personnel Health Records System of Records

AGENCY: Privacy Office; DHS.

ACTION: Notice of Privacy Act system of records.

SUMMARY: In accordance with the Privacy Act of 1974 and as part of the Department of Homeland Security Privacy Office's ongoing effort to review and update legacy system of record notices, the Department of Homeland Security is giving notice that it proposes to update and reissue the following legacy record system DOT/CG 572 Military Personnel Health Record System (April 11, 2000) as a Department of Homeland Security system of records notice titled, United States Coast Guard Military—011 Personnel Health Record System Files. This system will be used by the United States Coast Guard to collect and maintain records of normal duty rotations, suitability of members for overseas assignments, develop automated information relating to medical readiness in wartime and contingence operations, determine eligibility for disability, and to maintain health care records. Categories of individuals, categories of records, and the routine uses of this legacy system of records notice have been reviewed and updated to better reflect the Department of Homeland Security/United States Coast Guard's military personnel health record system. This new system will be included in the Department of Homeland Security's inventory of record systems.

DATES: Written comments must be submitted on or before January 20, 2009. This new system will be effective January 20, 2009.

ADDRESSES: You may submit comments, identified by docket number DHS-2008-0111 by one of the following methods:

• Federal e-Rulemaking Portal: http://www.regulations.gov. Follow the instructions for submitting comments.

• Fax: 1-866-466-5370.

• Mail: Hugo Teufel III, Chief Privacy Officer, Privacy Office, Department of Homeland Security, Washington, DC 20528.

• Instructions: All submissions received must include the agency name and docket number for this rulemaking. All comments received will be posted without change and may be read at http://www.regulations.gov, including any personal information provided.

• Docket: For access to the docket, to read background documents, or comments received, go to http://www.regulations.gov.

FOR FURTHER INFORMATION CONTACT: For general questions please contact: David Roberts (202-475-3521), Privacy Officer, United States Coast Guard. For privacy issues please contact: Hugo Teufel III (703-235-0780), Chief Privacy Officer, Privacy Office, U.S. Department of Homeland Security, Washington, DC 20528.

SUPPLEMENTARY INFORMATION:

I. Background

Pursuant to the savings clause in the Homeland Security Act of 2002, Public Law 107-296, Section 1512, 116 Stat. 2310 (Nov. 25, 2002), the Department of Homeland Security (DHS)/United States Coast Guard (USCG) have relied on preexisting Privacy Act systems of records notices for the collection and maintenance of records that concern military personnel health records.

As part of its efforts to streamline and consolidate its record systems, DHS/USCG is updating and reissuing a DHS/USCG system of records under the Privacy Act (5 U.S.C. 552a) that deals with DHS/USCG's military personnel health records. This record system will allow DHS/USCG to collect and maintain records regarding military personnel health records. The collection and maintenance of this information will assist DHS/USCG in meeting its obligation to manage the military personnel health records.

In accordance with the Privacy Act of 1974 and as part of the DHS Privacy Office's ongoing effort to review and update legacy system of record notices, DHS is giving notice that it proposes to update and reissue the following legacy record system DOT/CG 572 Military Personnel Health Record System (65 FR 19475 4/11/2000) as a DHS/USCG system of records notice titled, DHS/USCG—011 Military Personnel Health Record System Files. This system will be used by the United States Coast Guard to collect and maintain records of normal duty rotations, suitability of members for overseas assignments, develop automated information relating to medical readiness in wartime and contingence operations, determine eligibility for disability, and to maintain health care records. Categories of individuals and categories of records have been reviewed, and the routine uses of this legacy system of records notice have been updated to better reflect the DHS/USCG's military personnel health record system. This new system will be included in DHS's inventory of record systems.

II. Privacy Act

The Privacy Act embodies fair information principles in a statutory framework governing the means by which the United States Government collects, maintains, uses and disseminates personally identifiable information. The Privacy Act applies to information that is maintained in a “system of records.” A “system of records” is a group of any records under the control of an agency from which information is stored and retrieved by the name of the individual or by some identifying number such as property address, mailing address, or symbol assigned to the individual. In the Privacy Act, an individual is defined to encompass United States citizens and lawful permanent residents. DHS extends administrative Privacy Act protections to all individuals where information is maintained on both U.S. citizens, lawful permanent residents, and visitors. Individuals may request their own records that are maintained in a system of records in the possession or under the control of DHS by complying with DHS Privacy Act regulations, 6 CFR 5.21.

The Privacy Act requires each agency to publish in the Federal Register a description denoting the type and character of each system of records that the agency maintains, and the routine uses that are contained in each system in order to make agency record keeping practices transparent, to notify individuals regarding the uses of their records, and to assist individuals to more easily find such files within the agency. Below is the description of the Military Personnel Health System of Records.

III. Health Insurance Portability and Accountability Act

This system of records contains individually identifiable health information. The Health Insurance Portability and Accountability Act of 1996, applies to most of such health information. Department of Defense 6025.18-R may place additional procedural requirements on the uses and disclosures of such information beyond those found in the Privacy Act of 1974 or mentioned in this system of records notice.

In accordance with 5 U.S.C. 552a(r), DHS has provided a report of this new system of records to the Office of Management and Budget and to Congress.

System of Records: DHS/USCG-011

System name:

United States Coast Guard Military Personnel Health Records System.

Security classification:

Unclassified.

System location:

Records are maintained at USCG Headquarters in Washington, DC, in field locations, and at USCG health care facilities at which USCG military personnel or eligible dependents receive treatment.

Categories of individuals covered by the system:

Active duty, reserve, retired active duty, reserve USCG military personnel or their eligible dependents, USCG Academy cadets, auxiliary while performing Coast Guard duties, members of foreign military services, federal employees assigned to USCG vessels, seamen, non-federally employed civilians aboard USCG vessels and civilians receiving physical exams prior to entry into the USCG.

Categories of records in the system:

Categories of records in this system include:

• Military personnel's name;

• Eligible dependant's name;

• Social security number;

• Employee ID;

• Date of Birth;

• Medical History;

• Records of medical and dental treatment, for example x-rays, physical examinations, psychological examinations;

• Records containing due date for physical/dental and eye examinations, inoculations, screening tests and results of actions required by USCG or other Federal, State or local government or agency; and

• Records concerning line of duty determination and eligibility for disability benefits.

Authority for maintenance of the system:

5 U.S.C. 301: The Federal Records Act, 44 U.S.C. 3101; Departmental Regulations; 10 U.S.C. 1071-1107; Medical and Dental Care; 14 U.S.C. 93(a)(17); 14 U.S.C. 632: Functions and powers vested in the Commandant.

Purpose(s):

To determine normal duty rotations, suitability of members for overseas assignments, develop automated information relating to medical readiness in wartime and contingence operations, determine eligibility for disability, and to maintain health care records as a function of general health maintenance.

Routine uses of records maintained in the system, including categories of users and the purposes of such uses:

Note: For records of identity, diagnosis, prognosis, or treatment of any client/patient, irrespective of whether or when he/she ceases to be a client/patient, maintained in connection with the performance of any alcohol or drug abuse prevention and treatment function conducted, requested, or directly or indirectly assisted by any department or agency of the United States, shall, except as provided therein, be confidential and be disclosed only for the purposes and under circumstances expressly authorized in 42 U.S.C. 290dd-2. The results of a drug test of civilian employees may be disclosed only as expressly authorized under 5 U.S.C. 7301. Theses statutes take precedence over the Privacy Act of 1974 to the extent that disclosure is more limited. However, access to the record by the individual to whom the record pertains is governed by the Privacy Act. The Routine Uses set forth below do not apply to this information.

Note: For other records than those mentioned in the note above, this system of records contains individually identifiable health information. The Health Insurance Portability and Accountability Act of 1996, applies to most of such health information. Department of Defense 6025.18-R may place additional procedural requirements on the uses and disclosures of such information beyond those found in the Privacy Act of 1974 or mentioned in this system of records notice. Therefore, routine uses outlined below may not apply to such health information.

In addition to those disclosures generally permitted under 5 U.S.C. 552a(b) of the Privacy Act, all or a portion of the records of information contained in this system may be disclosed outside DHS as a routine use pursuant to 5 U.S.C. 552a(b)(3) as follows:

A. To the Department of Justice or other Federal agency conducting litigation or in proceedings before any court, adjudicative or administrative body, when:

1. DHS or any component thereof;

2. Any employee of DHS in his/her official capacity;

3. Any employee of DHS in his/her individual capacity where DOJ or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To Federal, State, or local governments and agencies to compile statistical data for research and auditing; to provide quality assurance; to report medical conditions and other data required by law; to aid in preventive health and communicable disease control programs.

I. To the Accreditation Association for Ambulatory Health Care, Inc. to evaluate health care provided, personnel, and facilities for professional certification and hospital accreditation; to provide quality services.

J. To the Department of Defense to analyze the results of communicable diseases, to ensure uniformity of record keeping, and to centralize production of reports for all uniformed services.

K. To the Department of Defense or other Federal, State, or local governments and agencies for casualty identification purposes.

L. To the Social Security Administration and Veterans Administration for use in determining an individual's entitlement to benefits administered by those agencies.

M. To the Public Health Service, Department of Defense, or Veterans Administration medical personnel or to personnel or facilities providing care to eligible beneficiaries under contract in connection with medical treatment of individuals.

N. To the Department of Health and Human Services for purposes of the Federal Medical Care Recovery Act. Records are available to the Public Health Service or Department of Defense medical personnel in connection with medical treatment of individuals at the Public Health Service or Department of Defense facilities.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Records may be retrieved by name and sponsor's social security number.

Safeguards:

Records in this system are safeguarded in accordance with applicable rules and policies, including all applicable DHS automated systems security and access policies. Strict controls have been imposed to minimize the risk of compromising the information that is being stored. Access to the computer system containing the records in this system is limited to those individual who have a need to know the information for the performance of their official duties and who have appropriate clearances or permissions.

Retention and disposal:

A. Active Duty Personnel: Individual medical files are retained at the military personnel's unit or healthcare facility at which the military personnel receives care for so long as individual is assigned to the particular area. When the military personnel is reassigned, the individual medical file is transferred to the new duty station upon reassignment of military personnel. Upon separation or retirement, the medical file is incorporated into DHS/USCG-005 Military Services Personnel.

B. Retired Personnel: military personnel medical files are retained at the medical facility for a period of 6 years from date of last activity. Six years after the last report, the files are transferred to National Personnel Records Center (Military Personnel Records), 9700 Page Blvd, St. Louis, MO 63132.

C. Dependents: dependent's medical files are retained at the medical treatment facility for period of 6 years from date of last activity. Transferred to new duty station of sponsor upon written request of dependent. Records not transferred are forwarded to National Personnel Records Center, CPR, 111 Winnebago Street, St. Louis, MO 63118 six years after last activity.

D. Reserve Personnel: reservist medical files are retained in custody of the reserve group or unit, or healthcare facility at which the member receives care for so long as the reservist is assigned to the particular area. When the reservist is reassigned, the medical file is transferred to the new reserve group or unit or district commander as appropriate. Upon separation or retirement, the medical file is incorporated into Official USCG Reserve Service Record System, DHS/USCG-028.

System Manager and address:

Commandant, CG-11, United States Coast Guard Headquarters, Director, Health and Safety Directorate, 2100 2nd Street, SW., Washington, DC 20593-0001.

Notification procedure:

Individuals seeking notification of and access to any record contained in this system of records, or seeking to contest its content, may submit a request in writing to USCG, Commandant (CG-611), 2100 2nd St., SW., Attn: FOIA Coordinator, Washington, DC 20593-0001.

When seeking records about yourself from this system of records or any other USCG system of records your request must conform with the Privacy Act regulations set forth in 6 CFR part 5. You must first verify your identity, meaning that you must provide your full name, current address and date and place of birth. You must sign your request, and your signature must either be notarized or submitted to you under 28 U.S.C. 1746, a law that permits statements to be made under penalty or perjury as a substitute for notarization. While no specific form is required, you may obtain forms for this purpose from the Director, Disclosure and FOIA, http://www.dhs.gov or 1-866-431-0486. In addition you should provide the following:

• An explanation of why you believe the Department would have information on you,

• Specify when you believe the records would have been created,

• If your request is seeking records pertaining to another living individual, you must include a statement from that individual certifying his/her agreement for you to access his/her records.

Without this bulleted information the USCG may not be able to conduct an effective search, and your request may be denied due to lack of specificity or lack of compliance with applicable regulations.

Record access procedures:

See “Notification procedure” above.

Contesting record procedures:

See “Notification procedure” above.

Record source categories:

Medical facilities where beneficiaries treated or examined; investigations resulting from illness or injury; the individual.

Exemptions claimed for the system:

None.

Dated: December 10, 2008.
Hugo Teufel III,
Chief Privacy Officer, Department of Homeland Security.

[FR Doc. E8-29805 Filed 12-18-08; 8:45 am]

BILLING CODE 4410-10-P